DEPARTMENT OF HEALTH AND HUMAN SERVICES

Administration for Community Living

Agency Information Collection Activities; Submission for OMB Review; Comment Request; Extension of Current Funding Opportunity Announcement and Grant Application Template for ACL Discretionary Grant Programs

AGENCY: Administration for Community Living, HHS.

ACTION: Notice.

SUMMARY: The Administration for Community Living (ACL) is announcing that the proposed collection of information listed below has been submitted to the Office of Management and Budget (OMB) for review and clearance under the Paperwork Reduction Act of 1995.

DATES: Submit written comments on the collection of information by February 7, 2014.

ADDRESSES: Submit written comments on the collection of information by fax 202.395.6974 or by mail to the Office of Information and Regulatory Affairs, OMB, New Executive Office Bldg., 725 17th St. NW., Rm. 10235, Washington, DC 20503, Attn: Carolyn Lovett, Desk Officer for ACL.

FOR FURTHER INFORMATION CONTACT: Lori Stalbaum, (202) 357-3452 or lori.stalbam@acl.hhs.gov.

SUPPLEMENTARY INFORMATION: In compliance with 44 U.S.C. 3507, ACL has submitted the following proposed collection of information to OMB for review and clearance.

ACL is requesting an extension of the currently approved Administration on Aging (AoA) Funding Opportunity Announcement and Application Instructions Template for use for all ACL Discretionary Grant Programs, of which AoA is now a program center. This template provides the requirements and instructions for the submission of an application for discretionary grants funding opportunities. The template may be found on the ACL Web site at www.acl.gov/Funding_Opportunities/Announcements/docs/ACL_PA_Template_FINAL_8-12-13.doc. ACL estimates the burden of this collection of information as follows:

Frequency: 15—20 Funding Opportunity Announcements published annually.

Respondents: State agencies, public agencies, private non-profit agencies, institutions of higher education, and organizations including tribal organizations.

Estimated Number of Responses: 350 annually.

Total Estimated Burden Hours: 16,800.

Dated: January 2, 2014.
Kathy Greenlee,
Administrator and Assistant Secretary for Aging.

[FR Doc. 2014-00059 Filed 1-7-14; 8:45 am]

BILLING CODE 4154-01-P